DEPARTMENT OF ENERGY

Federal Energy Regulatory Commission

[Project No. 6619-022]

Lake Upchurch Power, Inc., Lake Upchurch Dam Preservation Association, Inc.; Notice of Transfer of Exemption

1. By letter filed August 1, 2018 and supplemented on August 17 and September 4, 2018, Lake Upchurch Dam Preservation Association, Inc., informed the Commission that the exemption from licensing for the Raeford Dam Hydroelectric Project No. 6619, originally issued October 22, 1982 ¹ has been transferred to Lake Upchurch Dam Preservation Association, Inc. The project is located on Rockfish Creek in Cumberland County, North Carolina. The transfer of an exemption does not require Commission approval.

¹ Notice of Exemption From Licensing. Raeford Hydropower Corporation, 21 FERC ¶ 62,114 (1982).

2. Lake Upchurch Dam Preservation Association, Inc. is now the exemptee of the Raeford Dam Hydroelectric Project No. 6619. All correspondence should be forwarded to: Ms. Melissa Melvin, Secretary, Lake Upchurch Dam Preservation Association, Inc., 127 Bayshore Drive, Parkton, NC 28371, Phone: 910-864-3191, email: Hmelvin1@nc.rr.com.

Dated: September 20, 2018.
Kimberly D. Bose,
Secretary.

[FR Doc. 2018-21063 Filed 9-26-18; 8:45 am]

BILLING CODE 6717-01-P